DEPARTMENT OF AGRICULTURE

Economic Research Service

Notice of Intent To Seek Approval To Collect Information

AGENCY: Economic Research Service, USDA.

ACTION: Notice and request for comments.

SUMMARY: In accordance with the Paperwork Reduction Act of 1995 (Pub. L. 104-13) and Office of Management and Budget (OMB) regulations at 5 CFR part 1320 (60 FR 44978, August 29, 1995), this Notice invites the general public and other interested parties to comment on a proposed information collection by the Economic Research Service (ERS). This information collection will provide data needed to develop questionnaires and related instruments capable of collecting reliable and valid information on topics including stress and food-related behavior, cognitive load and food-related behavior, and self-control and food-related behavior. ERS plans to conduct data collections that involve formative research, including such methods as cognitive interviews (individuals), and pre-testing and field testing of survey items (in person, telephone).

DATES: Comments on this Notice must be received by January 12, 2007 to be assured of consideration.

ADDRESSES: Requests for additional information regarding this Notice should be directed to Dr. Mark Denbaly, Economic Research Service, U.S. Department of Agriculture, 1800 M Street, NW., Room S2078, Washington, DC 20036-5831. Submit electronic comments to mdenbaly@ers.usda.gov or fax to 202-694-5390.

SUPPLEMENTARY INFORMATION: Title: Formative Research for Development and Testing of Questionnaires on the Psychological Determinants of Food Consumption Behavior.

OMB Number: Not yet assigned.

Expiration Date: N/A.

Type of Request: Approval to collect information from civilian, non-institutionalized population, especially low-income individuals and households targeted by USDA food assistance programs.

Abstract: Diet-related health conditions account for a large fraction of morbidity and mortality in the United States. Significant sections of the U.S. population consume sub-optimal diets characterized by overconsumption and poor diet quality. Diet-related health conditions such as obesity have increased rapidly among all population groups, including the low-income and food assistance program recipients. Health care costs related to poor diets and obesity are placing a growing burden on the health insurance system. Poor diets and the growing rate of obesity among children imply that such costs will continue to increase unless dietary behaviors become more healthful. A growing body of research suggests standard economic models modified to account for systematic errors, cognitive biases, and self control problems in decision making may offer a more complete explanation of the persistence of poor dietary choices and offer a wider array of public policy solutions. While such new behavioral economics research has examined decision making in other domains of consumer choice, there has been limited research on food consumption and dietary habits. In particular, there is a lack of reliable, valid questionnaires or other short, practical population measures capable of collecting valid information on topics including stress and food-related behavior, cognitive load and food-related behavior, and self-control and food-related behavior. Dietary assessment through 24-hour dietary recall is well-established. However, development of new questionnaires for assessing stress, cognitive load, and self-control as they relate to dietary behavior and the assessment of their reliability and validity will require formative research. Formative research methods such as cognitive interviewing and field testing will assist ERS to develop questionnaires and related measures that are understandable and yield reliable, valid information on psychological and behavioral underpinnings of food choice. Findings from all subsequent data collections will be included in summary reports submitted to OMB. The reports will describe the data collection methods used in the formative research, findings, conclusions, implications, and recommendations for the development of reliable, valid questionnaires and related measures. There will be no attempt to generalize the findings to be nationally representative.

Methods of Collection: The data will be collected using a combination of methodologies appropriate to each formative research activity. These methodologies could include cognitive interviews and pretest/field tests.

Estimated Number of Respondents and Total Annual Burden on Respondents:
Type of data collection | Number of respondents | Average respondent burden (minutes) | Total hours of burden
Cognitive Interviews/Pretesting | 24 | 20 | 8
Field Test | 800 | 120 | 1,600
Totals | 824 | N/A | 1,608

Comments: Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. All comments on this Notice will become a matter of public record and be summarized in the request for OMB approval.

Dated: October 19, 2006.
Susan Offutt,
Administrator, Economic Research Service.

[FR Doc. E6-18797 Filed 11-7-06; 8:45 am]

BILLING CODE 3410-18-P